DEPARTMENT OF ENERGY

Federal Energy Regulatory Commission

[Project No. 2426-227]

California Department of Water Resources and Los Angeles Department of Water and Power; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2426-227.

c. Date filed: January 30, 2020.

d. Co-Applicants: California Department of Water Resources and Los Angeles Department of Water and Power.

e. Name of Project: South SWP Hydropower Project

f. Location: Along the West Branch of the California Aqueduct, and along Piru Creek and Castaic Creek, tributaries to the Santa Clara River, in Los Angeles County, California. The project currently occupies 2,790 acres of federal land administered by the U.S. Department of Agriculture, Forest Service, as part of the Angeles National Forest and the Los Padres National Forest; and 17 acres of federal land administered by the U.S. Department of Interior, Bureau of Land Management.

g. Filed Pursuant to: Federal Power Act 16 U.S.C. 791(a)-825(r).

h. Applicant Contact: Gwen Knittweis, Chief, Hydropower License Planning and Compliance Office, California Department of Water Resources, P.O. Box 924836, Sacramento, California 94236-0001, (916) 557-4554, or Gwen.Knittweis@water.ca.gov; and Simon Zewdu, Manager of Strategic Initiatives, Power Planning and Development, Los Angeles Department of Water and Power, 111 North Hope Street, Room 921, Los Angeles, CA 90012, (213) 367-0881, or Simon.Zewdu@ladwp.com.

i. FERC Contact: Kyle Olcott at (202) 502-8963; or email at kyle.olcott@ferc.gov.

j. Deadline for filing motions to intervene and protests, comments, recommendations, preliminary terms and conditions, and preliminary prescriptions: 60 days from the issuance date of this notice; reply comments are due 105 days from the issuance date of this notice.

The Commission strongly encourages electronic filing. Please file using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2426-227.

Intervenors—those on the Commission's service list for this proceeding—are reminded that if they file comments with the Commission, they must also serve a copy of their filing on each person whose name appears on the official service list. Note that the list is periodically updated. The official service list can be obtained on the Commission's website (https://www.ferc.gov)—click on Documents and Filing and click on eService—or call the Office of the Secretary, Dockets Branch at (202) 502-8715. In addition, if any party files comments or documents with the Commission relating to the merits of an issue that may affect the responsibilities of a particular resource agency, they must also serve a copy of the document on the resource agency.

k. This application has been accepted for filing and is now ready for environmental analysis.

The Council on Environmental Quality (CEQ) issued a final rule on July 15, 2020, revising the regulations under 40 CFR parts 1500-1518 that federal agencies use to implement NEPA (see Update to the Regulations Implementing the Procedural Provisions of the National Environmental Policy Act, 85 FR 43,304). The Final Rule became effective on and applies to any NEPA process begun after September 14, 2020. An agency may also apply the regulations to ongoing activities and environmental documents begun before September 14, 2020, which includes the proposed Gouverneur Project. Commission staff intends to conduct its NEPA review in accordance with CEQ's new regulations.

l. The project consists of two developments: Warne Development and Castaic Development. The average annual generation of the South SWP Project from 2007 to 2017 was 304 gigawatt-hours (GWh) at the Warne powerplant and 520 GWh at the Castaic powerplant.

Warne Development

The major features of the Warne Development include: (1) Quail Lake, (2) Lower Quail Canal, (3) Peace Valley pipeline and intake embankment, (4) Gorman bypass channel, (5) the William E. Warne powerplant (Warne powerplant), (6) switchyard, (7) the transmission line that interconnects Warne powerplant with the Southern California Edison (SCE) Pastoria-Pardee transmission line, and (8) appurtenant facilities.

Quail Lake is a small regulating reservoir along the State Water Project (SWP) that was created by constructing an embankment along a sag pond formed by the San Andreas fault.

Water released from Quail Lake through the Quail Lake outlet flows into the 2-mile-long Lower Quail canal which serves as a conveyance to the Peace Valley pipeline intake.

SWP water flowing from Quail Lake through Lower Quail canal is routed into the Peace Valley pipeline to Warne powerplant and then to Pyramid Lake.

In the event of a Peace Valley pipeline outage or scheduled SWP water releases exceeding the pipeline's capacity, the water is routed through the Gorman bypass channel directly into Pyramid Lake.

The Warne powerplant, an above-ground, steel-reinforced, concrete powerhouse, is located at the northern (upstream) end of Pyramid Lake, at the terminus of the Peace Valley pipeline. The powerplant has two 37.5-MW Pelton-type generating units, each with a rated discharge of 782 cubic feet per second (cfs).

The project includes a 3-mile-long, single-circuit, 220-kilovolt (kV) transmission line that connects output from the project through the Warne switchyard to SCE's Pardee-Pastoria transmission line.

Castaic Development

The major features of the Castaic Development include: (1) Pyramid dam, (2) Pyramid Lake, (3) the Angeles tunnel and seven penstocks, (4) the Castaic powerplant and switchyard, (5) the Elderberry forebay and dam, (6) storm bypass channel and check dams, (7) the transmission lines that interconnect Castaic switchyard with the Independent System Operator power grid, and (8) appurtenant facilities. DWR owns and operates the facilities above the surge chamber at the southeastern end of the Angeles tunnel, and LADWP owns and operates the remainder of the facilities, including the surge chamber.

Pyramid dam, at the southern end of Pyramid Lake, is a 1,090-foot-long, 400-foot-high zoned earth and rock fill dam. Water is typically released from a low-level outlet to an 18-mile-long section of Piru Creek (Pyramid reach), which extends from Pyramid dam to the NMWSE of Lake Piru.

Pyramid Lake serves as regulated storage for the Castaic powerplant. Pyramid Lake also serves as emergency storage for the SWP.

Angeles tunnel, the principal outlet from Pyramid Lake, supplies water to the Castaic powerplant in the generating mode and returns water to the lake from Elderberry forebay when the powerplant is operating in the pumping mode.

The Castaic powerplant, an aboveground/underground, steel-reinforced, concrete powerhouse, is located on the northern (upstream) end of Elderberry forebay and is a pump-generating plant with the ability to pump water back to Pyramid Lake using off-peak energy when it is economical to do so. Elderberry forebay serves as an afterbay for the Castaic powerplant while in generating mode and as a forebay while in pumping mode. Pyramid Lake serves as the upper reservoir for the powerplant.

The powerplant has six Francis-type pump-turbine units each with a rated output of 355,000 horsepower (hp), and an estimated rated discharge of 3,500 cfs. It also has one Pelton-type pump starting turbine unit with a rated output of 69,000 hp and an approximate rated discharge of 752 cfs.

Elderberry forebay dam is a 1,990-foot-long, 200-foot-high zoned earthfill dam.

The Castaic switchyard is a fenced switchyard located adjacent to the powerhouse. An 11.4-mile-long, 230-kV transmission line delivers energy from the Castaic switchyard to the Haskell Junction substation and transmits energy to the Castaic powerplant when in the pump-back operating mode.

Co-Licensees' Proposed Modifications

In their Final License Application, the co-licensees propose to add the following facilities to the project license: The existing Quail Detention Embankment, segments of some existing roads necessary for project operation and maintenance, and an existing streamflow gage located on Piru Creek downstream of Pyramid Dam. Additionally, the co-licensees propose to remove the Warne Transmission Line from the project license.

The co-licensees also propose to modify the project boundary to reduce the amount of land from 6,928 acres to 4,563.8 acres. The project, as proposed by the licensee, would reduce the amount of federal land from 2,790 acres to 2,007 acres of federal lands: 1,336 acres administered by the U.S. Department of Agriculture, Forest Service, as part of the Angeles National Forest; 665 acres administered by the U.S. Department of Agriculture, Forest Service, as part of the Los Padres National Forest; and 6.5 acres administered by the U.S. Department of the Interior, Bureau of Land Management.

m. A copy of the application can be viewed on the Commission's website at https://www.ferc.gov using the “eLibrary” link. Enter the docket number excluding the last three digits in the docket number field to access the document. For assistance, contact FERC Online Support.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following schedule. Revisions to the schedule may be made as appropriate

Milestone | Target date
Deadline for filing comments, recommendations, preliminary terms and conditions, and preliminary fishway prescriptions | February 2021.
Deadline for Filing Reply Comments | March 2021.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

Dated: December 2, 2020.
Kimberly D. Bose,
Secretary.

[FR Doc. 2020-26929 Filed 12-7-20; 8:45 am]

BILLING CODE 6717-01-P